DEPARTMENT OF LABOR

Proposed Information Collection Request for Workforce Investment Act, Title 1B Programs (OMB Control Number 1205-0420): Comment Request for Extension Without Changes

AGENCY: Employment and Training Administration.

ACTION: Notice.

SUMMARY: The Department of Labor, as part of its continuing effort to reduce paperwork and respondent burden conducts a preclearance consultation program to provide the general public and federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration is soliciting comments concerning the collection of data about the Workforce Investment Act Management Information and Reporting System.

A copy of the proposed information collection request (ICR) can be obtained by contacting the office listed below in the addressee section of this notice or by accessing: http://www.doleta.gov/OMBCN/OMBControlNumber.cfm.

DATES: Written comments must be submitted to the office listed in the addressee's section below on or before September 30, 2008.

ADDRESSES: Submit written comments to Karen A. Staha, Performance and Technology Office, Employment and Training Administration, U.S. Department of Labor, 200 Constitution Avenue, NW., Room S-5206, Washington, DC 20210. Telephone number: 202-693-3420 (this is not a toll-free number). Fax: 202-693-3490. E-mail: ETAPerforms@dol.gov.

SUPPLEMENTARY INFORMATION:

I. Background

Each state administering a grant under the WIA adult, dislocated worker, and youth programs is required to submit quarterly (ETA 9090) and annual (ETA 9091) reports containing information related to levels of participation and performance outcomes for each program. In addition, each state submits a file of individual records on all participants who exit the programs, formally called the Workforce Investment Act Title 1-B Standardized Record Data (WIASRD). These participant records are submitted once a year based on a July-to-June program period. This notice is requesting the extension of the current collection without change.

The Employment and Training Administration is proposing similar changes to the reporting requirements for Wagner-Peyser Employment Service Programs and the Trade Adjustment Assistance Act Programs. Please note that ETA will seek comments regarding extensions to these collections in separate Federal Register notices.

II. Review Focus

The Department of Labor is particularly interested in comments which:

* Evaluate whether the proposed collection of information is necessary for the proper performance of the functions of the agency, including whether the information will have practical utility;

* Evaluate the accuracy of the agency's estimate of the burden of the proposed collection of information, including the validity of the methodology and assumptions used;

* Enhance the quality, utility, and clarity of the information to be collected; and

* Minimize the burden of the collection of information on those who are to respond, including through the use of appropriate automated, electronic, mechanical, or other technological collection techniques or other forms of information technology, e.g., permitting electronic submissions of responses.

III. Current Actions

Type of Review: extension without changes.

Agency: Employment and Training Administration.

Title: Workforce Investment Act, Title 1B.

OMB Number: 1205-0420.

Affected Public: State, Local, or Tribal Government.

Forms: ETA-9090, ETA 9091.

Total Respondents: 53 States and Territories.

Frequency: Quarterly and Annual.

Total Responses Annually: 265.

Average Time per Response: See Tables:

I. WIASRD Record

Record type | Hrs. per job seeker record | PY 02 annual national counts | Annual national burden hours
Adult, DW, NEG Exiters | 0.6 | 435,355 | 276,450
Youth Exiters | 2.0 | 164,266 | 328,532
Total |  | 599,621 | 604,982

II. Quarterly and Annual Summary Reports

Program | Hrs. per year per state | Number of reporting states | Annual national hours
Quarterly Report ETA 9090 | 640 | 53 | 33,920
Annual Report ETA 9091 | 400 | 53 | 21,200
Total | 1,040 | 53 | 55,120

III. Customer Satisfaction Survey

Survey task | Number of states | Hours per state per task/yr | Total national burden hours/yr
Respondents | 53 | 83.3 | 4,417
Survey Administration | 53 | 688 | 36,464
Survey Prep and Overhead | 53 | 154 | 8,162
Total | 53 | 925.3 | 49,043

Estimated Total Burden Hours: 709,145.

Total Burden Cost (operating/maintaining): 0.

Comments submitted in response to this comment request will be summarized and/or included in the request for Office of Management and Budget approval of the information collection request; they will also become a matter of public record.

Dated: July 25, 2008.
John R. Beverly,
Administrator, Office of Performance and Technology, Employment and Training Administration.

[FR Doc. E8-17651 Filed 7-31-08; 8:45 am]

BILLING CODE 4510-FN-P